DEPARTMENT OF COMMERCE

Foreign-Trade Zones Board

[S-106-2013]

Approval of Subzone Status; Channel Control Merchants, LLC, Hattiesburg, Mississippi

On July 1, 2013, the Executive Secretary of the Foreign-Trade Zones (FTZ) Board docketed an application submitted by the Mississippi Coast Foreign Trade Zone, Inc., grantee of FTZ 92, requesting subzone status subject to the existing activation limit of FTZ 92 on behalf of Channel Control Merchants, LLC, in Hattiesburg, Mississippi.

The application was processed in accordance with the FTZ Act and Regulations, including notice in the Federal Register inviting public comment (78 FR 40692, 7/8/2013). The FTZ staff examiner reviewed the application and determined that it meets the criteria for approval.

Pursuant to the authority delegated to the FTZ Board's Executive Secretary (15 CFR 400.36(f)), the application to establish Subzone 92E is approved, subject to the FTZ Act and the Board's regulations, including Section 400.13 and further subject to FTZ 92's 2,000-acre activation limit.

Dated: September 13, 2013.
Andrew McGilvray,
Executive Secretary.

[FR Doc. 2013-22858 Filed 9-18-13; 8:45 am]

BILLING CODE 3510-DS-P